DEPARTMENT OF TRANSPORTATION

Federal Aviation Administration

14 CFR Part 97

[Docket No. 30720 ; Amdt. No. 3370]

Standard Instrument Approach Procedures, and Takeoff Minimums and Obstacle Departure Procedures; Miscellaneous Amendments

AGENCY: Federal Aviation Administration (FAA), DOT.

ACTION: Final Rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 28, 2010. The compliance date for each SIAP, associated Takeoff Minimums, and ODP is specified in the amendatory provisions.

The incorporation by reference of certain publications listed in the regulations is approved by the Director of the Federal Register as of April 28, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on April 16, 2010.
John M. Allen,
Director, Flight Standards Service.

Adoption of the Amendment

Accordingly, pursuant to the authority delegated to me, Title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 3 JUN 2010

Kotzebue, AK, Ralph Wien Memorial, RNAV (GPS) RWY 9, Amdt 2

Alexander City, AL, Thomas C Russell Fld, NDB-A, Amdt 2

Alexander City, AL, Thomas C Russell Fld, RNAV (GPS) RWY 18, Orig

Alexander City, AL, Thomas C Russell Fld, RNAV (GPS) RWY 36, Amdt 1

Alexander City, AL, Thomas C Russell Fld, Takeoff Minimums and Obstacle DP, Amdt 2

Wetumpka, AL, Wetumpka Muni, RNAV (GPS) RWY 9, Orig

Wetumpka, AL, Wetumpka Muni, RNAV (GPS) RWY 27, Orig

Wetumpka, AL, Wetumpka Muni, Takeoff Minimums and Obstacle DP, Orig

Wetumpka, AL, Wetumpka Muni, VOR-A, Amdt 2

Windsor Locks, CT, Bradley Intl, Takeoff Minimums and Obstacle DP, Amdt 3

Fernandina, FL, Fernandina Beach Muni, RNAV (GPS) RWY 13, Amdt 1

Fernandina, FL, Fernandina Beach Muni, RNAV (GPS) RWY 22, Orig

Tampa, FL, Tampa Executive, GPS RWY 18, Amdt 1C, CANCELLED

Tampa, FL, Tampa Executive, RNAV (GPS) RWY 18, Orig

Lagrange, GA, Lagrange-Callaway, RNAV (GPS) RWY 13, Orig-A

Lagrange, GA, Lagrange-Callaway, RNAV (GPS) RWY 31, Orig-A

Ames, IA, Ames Muni, RNAV (GPS) RWY 1, Amdt 2

Ames, IA, Ames Muni, RNAV (GPS) RWY 13, Amdt 1

Ames, IA, Ames Muni, RNAV (GPS) RWY 19, Amdt 1

Ames, IA, Ames Muni, RNAV (GPS) RWY 31, Amdt 1

Centerville, IA, Centerville Muni, RNAV (GPS) RWY 16, Orig

Centerville, IA, Centerville Muni, RNAV (GPS) RWY 34, Orig

Centerville, IA, Centerville Muni, Takeoff Minimums and Obstacle DP, Orig

Maquoketa, IA, Maquoketa Muni, GPS RWY 15, Orig, CANCELLED

Maquoketa, IA, Maquoketa Muni, GPS RWY 33, Orig, CANCELLED

Maquoketa, IA, Maquoketa Muni, RNAV (GPS) RWY 15, Orig

Maquoketa, IA, Maquoketa Muni, RNAV (GPS) RWY 33, Orig

Maquoketa, IA, Maquoketa Muni, Takeoff Minimums and Obstacle DP, Amdt 1

Sac City, IA, Sac City Muni, RNAV (GPS) RWY 36, Orig

Sac City, IA, Sac City Muni, NDB RWY 36, Amdt 4

Sac City, IA, Sac City Muni, Takeoff Minimums and Obstacle DP, Orig

Sioux Center, IA, Sioux Center Muni, NDB RWY 18, Amdt 5

Sioux Center, IA, Sioux Center Muni, RNAV (GPS) RWY 18, Orig

Sioux Center, IA, Sioux Center Muni, Takeoff Minimums and Obstacle DP, Amdt 2

Spencer, IA, Spencer Muni, GPS RWY 18, Orig, CANCELLED

Spencer, IA, Spencer Muni, GPS RWY 36, Orig, CANCELLED

Spencer, IA, Spencer Muni, ILS OR LOC RWY 12, Amdt 2

Spencer, IA, Spencer Muni, RNAV (GPS) RWY 12, Orig

Spencer, IA, Spencer Muni, RNAV (GPS) RWY 18, Orig

Spencer, IA, Spencer Muni, RNAV (GPS) RWY 30, Orig

Spencer, IA, Spencer Muni, RNAV (GPS) RWY 36, Orig

Spencer, IA, Spencer Muni, Takeoff Minimums and Obstacle DP, Orig

Spencer, IA, Spencer Muni, VOR RWY 12, Amdt 3

Bloomington/Normal, IL, Central IL Rgnl Arpt At Bloomington-Normal, RNAV (GPS) RWY 11, Amdt 1

Angola, IN, Tri-State Steuben County, RNAV (GPS) RWY 5, Orig-A

Fort Wayne, IN, Fort Wayne Intl, ILS OR LOC RWY 5, ILS RWY 5 (CAT II), Amdt 15A

Fort Wayne, IN, Fort Wayne Intl, VOR OR TACAN RWY 23, Amdt 13A

Frankfort, IN, Frankfort Muni, Takeoff Minimums and Obstacle DP, Orig

Nappanee, IN, Nappanee Muni, VOR/DME OR GPS-A, Amdt 3B

Warsaw, IN, Warsaw Muni, ILS OR LOC/DME RWY 27, Orig-D

Warsaw, IN, Warsaw Muni, VOR RWY 27, Amdt 6C

Warsaw, IN, Warsaw Muni, VOR OR GPS RWY 9, Amdt 5C

Coffeyville, KS, Coffeyville Muni, RNAV (GPS) RWY 35, Orig

Chatham, MA, Chatham Muni, NDB-A, Amdt 1

Chatham, MA, Chatham Muni, RNAV (GPS)-B, Orig

Stow, MA, Minute Man Airfield, NDB-A, Amdt 8

Stow, MA, Minute Man Airfield, RNAV (GPS) RWY 21, Orig

Westfield/Springfield, MA, Barnes Muni, GPS RWY 2, Orig-B, CANCELLED

Westfield/Springfield, MA, Barnes Muni, RNAV (GPS) RWY 2, Orig

Westfield/Springfield, MA, Barnes Muni, Takeoff Minimums and Obstacle DP, Amdt 4

Westminster, MD, Carroll County Rgnl/Jack B Poage Field, RNAV (GPS) RWY 34, Amdt 1

Grayling, MI, Grayling AAF, NDB RWY 14, Amdt 8

Grayling, MI, Grayling AAF, Takeoff Minimums and Obstacle DP, Amdt 3

Marquette, MI, Sawyer Intl, RNAV (GPS) RWY 19, Amdt 1

Muskegon, MI, Muskegon County, RADAR-1, Amdt 15

Oscoda, MI, Oscoda-Wurtsmith, ILS OR LOC/DME RWY 24, Amdt 3

Oscoda, MI, Oscoda-Wurtsmith, RNAV (GPS) RWY 24, Orig

Baudette, MN, Baudette Intl, Takeoff Minimums and Obstacle DP, Amdt 1

Crookston, MN, Crookston Muni/Kirkwood Fld, NDB RWY 13, Amdt 9

Duluth, MN, Sky Harbor, NDB OR GPS-B, Amdt 1, CANCELLED

Columbus, MS, Columbus-Lowndes County, RNAV (GPS) RWY 18, Orig

Columbus, MS, Columbus-Lowndes County, RNAV (GPS) RWY 36, Orig

Columbus, MS, Columbus-Lowndes County, VOR-A, Amdt 13

Sidney, MT, Sidney Richland Muni, NDB RWY 1, Amdt 3

Sidney, MT, Sidney Richland Muni, NDB RWY 19, Amdt 4

Sidney, MT, Sidney Richland Muni, RNAV (GPS) RWY 1, Amdt 1

Sidney, MT, Sidney Richland Muni, RNAV (GPS) RWY 19, Amdt 1

Sidney, MT, Sidney Richland Muni, Takeoff Minimums and Obstacle DP, Amdt 4

Mount Airy, NC, Mount Airy/Surry County, GPS RWY 36, Orig-A, CANCELLED

Mount Airy, NC, Mount Airy/Surry County, RNAV (GPS) RWY 18, Orig

Mount Airy, NC, Mount Airy/Surry County, RNAV (GPS) RWY 36, Orig

Gwinner, ND, Gwinner-Roger Melroe Field, RNAV (GPS) RWY 16, Amdt 3

Gwinner, ND, Gwinner-Roger Melroe Field, RNAV (GPS) RWY 34, Amdt 3

Watford City, ND, Watford City Muni, GPS RWY 30, Orig, CANCELLED

Watford City, ND, Watford City Muni, RNAV (GPS) RWY 12, Orig

Watford City, ND, Watford City Muni, RNAV (GPS) RWY 30, Orig

Watford City, ND, Watford City Muni, Takeoff Minimums and Obstacle DP, Amdt 1

Endicott, NY, Tri-Cities, Takeoff Minimums and Obstacle DP, Amdt 4

Farmingdale, NY, Republic, Takeoff Minimums and Obstacle DP, Amdt 6

Jamestown, NY, Chautauqua County/Jamestown, RNAV (GPS) RWY 25, Amdt 1A

Fostoria, OH, Fostoria Metropolitan, RNAV (GPS) RWY 27, Amdt 1

Wilmington, OH, Airborne Airpark, ILS OR LOC RWY 4L, Amdt 4B

Buffalo, OK, Buffalo Muni, Takeoff Minimums and Obstacle DP, Orig

Oklahoma City, OK, Sundance Airpark, Takeoff Minimums and Obstacle DP, Amdt 1

Pauls Valley, OK, Pauls Valley Muni, RNAV (GPS) RWY 17, Orig

Madras, OR, Madras Muni, RNAV (GPS) RWY 16, Orig

Madras, OR, Madras Muni, RNAV (GPS)-A, Amdt 1

Madras, OR, Madras Muni, Takeoff Minimums and Obstacle DP, Amdt 1

Portland, OR, Portland-Hillsboro, ILS OR LOC RWY 12, Amdt 9

Portland, OR, Portland-Hillsboro, RNAV (GPS) RWY 12, Amdt 1

Portland, OR, Portland-Hillsboro, RNAV (GPS) RWY 30, Orig

Portland, OR, Portland-Hillsboro, Takeoff Minimums and Obstacle DP, Amdt 6

Bedford, PA, Bedford County, RNAV (GPS) RWY 14, Amdt 1

Bedford, PA, Bedford County, RNAV (GPS) RWY 32, Amdt 1

Honesdale, PA, Cherry Ridge, Takeoff Minimums and Obstacle DP, Amdt 4

Pickens, SC, Pickens County, NDB RWY 5, Amdt 1

Pickens, SC, Pickens County, RNAV (GPS) RWY 5, Orig

Pickens, SC, Pickens County, RNAV (GPS) RWY 23, Orig

Pickens, SC, Pickens County, VOR/DME-A, Amdt 1

Athens, TX, Athens Muni, RNAV (GPS) RWY 17, Orig

Athens, TX, Athens Muni, RNAV (GPS) RWY 35, Orig

Athens, TX, Athens Muni, Takeoff Minimums and Obstacle DP, Orig

Martinsville, VA, Blue Ridge, LOC RWY 30, Amdt 1

Quinton, VA, New Kent County, RNAV (GPS) RWY 10, Amdt 1

Quinton, VA, New Kent County, RNAV (GPS) RWY 28, Amdt 1

Quinton, VA, New Kent County, Takeoff Minimums and Obstacle DP, Amdt 1

Spokane, WA, Spokane Intl, RNAV (GPS) RWY 3, Amdt 1

Spokane, WA, Spokane Intl, Takeoff Minimums and Obstacle DP, Amdt 5

West Bend, WI, West Bend Muni, VOR RWY 24, Amdt 3

Fairmont, WV, Fairmont Muni-Frankman Field, RNAV (GPS) RWY 23, Amdt 1

[FR Doc. 2010-9380 Filed 4-27-10; 8:45 am]

BILLING CODE 4910-13-P